DEPARTMENT OF COMMERCE

Foreign-Trade Zones Board

[S-34-2025]

Foreign-Trade Zone 7; Application for Expansion of Subzone 7F; Puerto Rico Energy LLC; Carolina, Puerto Rico

An application has been submitted to the Foreign-Trade Zones (FTZ) Board by the Puerto Rico Industrial Development Company, grantee of FTZ 7, requesting an expansion of Subzone 7F on behalf of Puerto Rico Energy LLC, located in Carolina, Puerto Rico. The application was submitted pursuant to the provisions of the Foreign-Trade Zones Act, as amended (19 U.S.C. 81a-81u), and the regulations of the FTZ Board (15 CFR part 400). It was formally docketed on February 14, 2025.

Subzone 7F was approved on May 15, 2001 (Board Order 1165, 66 FR 28890-28891, May 25, 2001) expanded on February 27, 2020 (S-235-2019, 85 FR 12892, March 5, 2020) and July 6, 2020 (S-81-2020, 85 FR 41227-41228, July 9, 2020). The subzone consists of the following sites: Site 1 (173.81 acres)—State Road 28, Km 2, Bayamon; Site 2 (45.18 acres)—Road 28, Km .08, Guaynabo; and, Site 3 (2.28 acres)— Luis Munoz Marin International Airport, General Cargo Area/Airport Fuel Facility, Carolina.

The applicant is requesting authority to expand Site 3 of the subzone to include 0.85 additional acres located at Luis Munoz Marin International Airport, Fuel Facility Base Muniz, Fuel Terminal Carolina, Carolina. Expanded Site 3 will total 3.13 acres.

The existing subzone and the proposed expanded site would be subject to the existing activation limit of FTZ 7. No additional authorization for production activity has been requested at this time.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is April 2, 2025. Rebuttal comments in response to material submitted during the foregoing period may be submitted through April 17, 2025.

A copy of the application will be available for public inspection in the “Online FTZ Information Section” section of the FTZ Board's website, which is accessible via www.trade.gov/ftz.

For further information, contact Camille Evans at Camille.Evans@trade.gov.

Dated: February 18, 2025.
Elizabeth Whiteman,
Executive Secretary.

[FR Doc. 2025-02920 Filed 2-20-25; 8:45 am]

BILLING CODE 3510-DS-P